DEPARTMENT OF ENERGY

Federal Energy Regulatory Commission

[Project No. 405-074]

Susquehanna Electric Company and PECO Energy Power Company; Notice of Temporary Variance Request and Soliciting Comments, Motions To Intervene, and Protests

July 25, 2007.

Take notice that the following hydroelectric application has been filed with the Federal Energy Regulatory Commission (Commission) and is available for public inspection:

a. Type of Application: Request for Temporary Variance of Minimum Flow Requirement.

b. Project No.: 405-074.

c. Date Filed: July 23, 2007.

d. Applicant: Susquehanna Electric Company and PECO Energy Power Company.

e. Name of Project: Conowingo Project.

f. Location: On the Susquehanna River, in Harford and Cecil Counties, Maryland and York and Lancaster Counties, Pennsylvania. The project does not utilize federal or tribal lands.

g. Filed Pursuant to: 18 CFR 4.200.

h. Applicant Contact: A. Karen Hill, Attorney for Exelon Corporation, 101 Constitution Avenue, NW., Washington, DC 20001, (202) 347-7501.

i. FERC Contact: Robert H. Grieve, robert.grieve@ferc.gov, (202) 502-8752.

j. Deadline for filing comments, motions to intervene and protest: August 25, 2007.

Please include the project number (P-405-074) on any comments or motions filed. All documents (original and seven copies) should be filed with: Kimberly D. Bose, Secretary, Federal Energy Regulatory Commission, 888 First Street, NE., Washington, DC 20426. Comments, protests, and interventions may be filed electronically via the Internet in lieu of paper, see 18 CFR 385.2001 (a)(1)(iii) and the instructions on the Commission's Web site under the “e-filing” link. The Commission strongly encourages electronic filings. Please include the project number (P-405-074) on any comments or motions filed.

The Commission's Rules of Practice and Procedure require all intervenors filing documents with the Commission to serve a copy of that document on each person in the official service list for the project. Further, if an intervenor files comments or documents with the Commission relating to the merits of an issue that may affect the responsibilities of a particular resource agency, they must also serve a copy of the document on that resource agency. A copy of any motion to intervene must also be served upon each representative of the Applicant specified in the particular application.

k. Description of Request: Susquehanna Electric Company (SEC) and PECO Energy Power Company (PECO) request Commission approval for a variance of the minimum flow requirement of the project license. Due to drought conditions and low river flows in the Susquehanna River, SEC and PECO request that they be allowed immediately to include plant leakage of about 800 cubic feet per second (cfs) in the required minimum flow discharge until September 14, 2007, or until flow conditions improve where the Conowingo Project no longer requires leakage be included as part of the minimum flow requirement. According to the license, for the period June 1 through September 14, annually, SEC and PECO must provide a minimum flow release (not including leakage) below the dam of 5,000 cfs, or inflow (as measured at the USGS gage at Marietta, PA), whichever is less. During the fall period, September 15 through November 30, SEC and PECO are required to release a minimum flow of 3,500 cfs not including leakage, or inflow to the project whichever is less, as measured at the Marietta gage.

The SEC and PECO are concerned about the ability of the Conowingo Project to maintain an adequate pond level and storage capacity during the current low flow period. Maintaining storage is necessary for generation and to ensure an adequate water supply for recreational and consumptive uses of the Conowingo Reservoir to include operation of Peach Bottom Atomic Power Station and Muddy Run Pumped Storage Project. Including plant leakage in the minimum flow discharge will contribute to the maintenance of these project water uses during this low flow period. During the period of the minimum flow variance, SEC and PECO will conduct daily monitoring of the Susquehanna River below the project for potential environmental effects. If any abnormal or adverse conditions are observed, SEC and PECO will promptly notify the Maryland Department of Natural Resources.

l. Locations of the Application: Copies of this filing are on file with the Commission and are available for public inspection and reproduction at the Commission's Public Reference Room, located at 888 First St., NE, Room 2A, Washington, DC 20426. This filing may be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3676 or e-mail FERCOnlineSupport@ferc.gov or for TTY (202) 502-8659. A copy is also available for inspection and reproduction at the address in item (h) above.

m. Individuals desiring to be included on the Commission's mailing list should so indicate by writing to the Secretary of the Commission.

n. Comments, Protests, or Motions to Intervene: Anyone may submit comments, a protest or a motion to intervene in accordance with the requirements of Rules of Practice and Procedure, 18 CFR 385.210. 385.211, and 385.214. In determining the appropriate action to take, the Commission will consider all protests filed, but only those who file a motion to intervene in accordance with the Commission's Rules may become a party to the proceeding. Any protests or motions to intervene must be received on or before the specified deadline date for the particular application.

o. Any filings must bear in all capital letters the title “COMMENTS”, “PROTEST”, or MOTION TO INTERVENE”, as applicable, and the Project Number of the particular application to which the filing refers.

p. Agency Comments: Federal, state, and local agencies are invited to file comments on the described application. A copy of the application may be obtained by agencies directly from the Applicant. If an agency does not file comments within the time specified for filing comments, it will be presumed to have no comments. One copy of an agency's comments must also be sent to the Applicant's representatives.

q. Comments, protests, and interventions may be filed electronically via the internet in lieu of paper. See, 18 CFR 385.2001(a)(1)(iii) and the instructions on the Commission's Web site at http://www.ferc.gov under the “e-filing” link.

Kimberly D. Bose,
Secretary.

[FR Doc. E7-14798 Filed 7-30-07; 8:45 am]

BILLING CODE 6717-01-P